DEPARTMENT OF STATE

[Public Notice 3215]

Advisory Committee on International Communications and Information Policy; Meeting Notice

The Department of State is announcing the next meeting of its Advisory Committee on International Communications and Information Policy. The Committee provides a formal channel for regular consultation and coordination on major economic, social and legal issues and problems in international communications and information policy, especially as these issues and problems involve users of information and communication services, providers of such services, technology research and development, foreign industrial and regulatory policy, the activities of international organizations with regard to communications and information, and developing country interests.

The guest speaker at the meeting will be The Honorable Gregory Rohde, Assistant Secretary and Administrator, National Telecommunications and Information Administration, U.S. Department of Commerce. Mr. Rohde will discuss priorities for his agency in the area of telecommunications policy.

This meeting will be held on Wednesday, March 8, 2000, from 9:30 a.m.-12:30 p.m., in Room 1107 of the Main Building of the U.S. Department of State, located at 2201 “C” Street, N.W., Washington, D.C. 20520. (Please note that this meeting is being held in place of the January 20 meeting which had been postponed due to inclement weather.) Members of the public may attend these meetings up to the seating capacity of the room. While the meeting is open to the public, admittance to the State Department Building is only by means of a pre-arranged clearance list. In order to be placed on the pre-clearance list, please provide your name, title, company, social security number, date of birth, and citizenship to Timothy C. Finton at <fintontc @state.gov>. All attendees for this meeting must use the 23rd Street entrance. One of the following valid ID's will be required for admittance: any U.S. driver's license with photo, a passport, or a U.S. Government agency ID. Non-U.S. Government attendees must be escorted by State Department personnel at all times when in the State Department building.

For further information, contact Timothy C. Finton, Executive Secretary of the Committee, at (202) 647-5385 or <fintontc @state.gov>.

Dated: February 4, 2000.
Timothy C. Finton,
Executive Secretary.

[FR Doc. 00-3247 Filed 2-10-00; 8:45 am]

BILLING CODE 4710-45-P